DEPARTMENT OF COMMERCE

National Oceanic and Atmospheric Administration

[RTID 0648-XA970]

Western Pacific Fishery Management Council; Public Meetings

AGENCY: National Marine Fisheries Service (NMFS), National Oceanic and Atmospheric Administration (NOAA), Commerce.

ACTION: Notice of a public meeting.

SUMMARY: The Western Pacific Fishery Management Council (Council) will hold a meeting of the Social Science Planning Committee (SSPC).

DATES: The SSPC meeting will be held on April 8, 2021, from 1:30 p.m. to 5 p.m., Hawaii Standard Time (HST). See SUPPLEMENTARY INFORMATION for the agenda.

ADDRESSES: The meeting will be held by web conference. Audio and visual portions of the web conference can be accessed at: https://wprfmc.webex.com/wprfmc/onstage/g.php?MTID=edb1473e4ec204f07e79460e1ec8db3bd. Event number (if prompted): 133 266 1276. Event password (if prompted): SSPC2021mtg. Instructions for connecting to the web conference and providing oral public comments will also be posted on the Council's website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: A public comment period will be provided in the agenda. The order in which agenda items are addressed may change. The meeting will run as late as necessary to complete scheduled business.

Agenda

Thursday, April 8, 2021, 1:30 p.m. to 5 p.m. HST

1. Welcome and Introductions

2. Approval of Agenda

3. SSPC Working Group on Integrating Socioeconomic Considerations for Council Actions

4. Socioeconomic Modules for the 2020 Annual Stock Assessment and Fishery Evaluation Reports

A. COVID Impacts Narrative

B. Publication and Data Collection Updates

5. Baseline Demographic Data Collection for Regional Surveys

6. National Economics/Human Dimensions Research Strategy

7. Review of SSPC Research Plan and Priorities

8. Project Updates

9. Public Comment

10. Discussion and Recommendations

11. Other Business

Special Accommodations

The meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 23, 2021.
Tracey L. Thompson,
Acting Deputy Director, Office of Sustainable Fisheries, National Marine Fisheries Service.

[FR Doc. 2021-06315 Filed 3-25-21; 8:45 am]

BILLING CODE 3510-22-P